DEPARTMENT OF LABOR

Employment and Training Administration

[TA-W-39,365]

Eagle Affiliates Harrison, NJ; Notice of Negative Determination Regarding Application for Reconsideration

By application of August 23, 2001, a petitioner requested administrative reconsideration of the Department's negative determination regarding eligibility for workers and former workers of the subject firm to apply for Trade Adjustment Assistance (TAA). The denial notice applicable to workers of Eagle Affiliates, Harrison, New Jersey was issued on July 23, 2001, and was published in the Federal Register on August 15, 2001 (66 FR 42879).

Pursuant to 29 CFR 90.18(c) reconsideration may be granted under the following circumstances:

(1) If it appears on the basis of facts not previously considered that the determination complained of was erroneous;

(2) If it appears that the determination complained of was based on a mistake in the determination of facts not previously considered; or

(3) If in the Opinion of the Certifying Officer, a misinterpretation of facts or of the law justified reconsideration of the decision.

The investigation findings revealed that criterion (3) of the group eligibility requirements of section 222 of the Trade Act of 1974 was not met. Increased imports did not contribute importantly to worker separations at the subject firm. Company imports are of products that are not and can not be made by the subject firm. Imports by the company are for the primary purpose to expand the subject firm's product line and not displace or replace the existing product line.

The request for reconsideration claims that the company imported products like and directly competitive with what the subject plant produced.The petitioner provided examples of products that are like and directly competitive with products produced at the subject firm.

The review of data supplied during the initial investigation shows that a meaningful portion of the company's sales consists of imported products. However, most of these products are hobby/craft related and stand alone items. They are new and unique and do not replace the overwhelming majority of products the company produces and do not provide an alternative to any products the company sells. In summary, company imports of hobby/craft items like and directly competitive with what the subject plant produces are negligible.

The company further indicated that a small portion of houseware sales consists of imports, but are negligible in relation to the products produced by the subject firm.

The preponderance in the declines in employment at the subject plant is related to plant products being outsourced to another domestic firm.

The survey results conducted during the initial investigation revealed that none of the customers increased their imports of products like and directly competitive with what the subject plant produced during the relevant period.

Conclusion

After review of the application and investigative finding, I conclude that there has been no error or misinterpretation of the law or of the facts which would justify reconsideration of the Department of Labor's prior decision. Accordingly, the applicant is denied.

Dated: Signed at Washington, DC, this 3rd day of January 2002.
Edward A. Tomchick,
Director, Division of Trade Adjustment Assistance.

[FR Doc. 02-2337 Filed 1-30-02; 8:45 am]

BILLING CODE 4510-30-M